DEPARTMENT OF TRANSPORTATION

Federal Aviation Administration

Notice of Intent To Rule on Request To Release the Entire Desert Center Airport, Desert Center, California

AGENCY: Federal Aviation Administration (FAA), DOT.

ACTION: Notice of request to release airport land.

SUMMARY: The FAA proposes to rule and invites public comment on the release of the Desert Center Airport, Desert Center, California from all restrictions of the surplus property agreement. The airport is comprised of approximately 1,129 acres of land that was acquired for airport purposes under a federal surplus property agreement with Riverside County. The purpose of the release is to permit the County to market the airport for sale due to its maintenance and insurance costs with no offsetting revenues.

DATES: Comments must be received on or before March 2, 2001.

ADDRESSES: Comments on this application may be mailed or delivered in triplicate to the FAA at the following address: Federal Aviation Administration, Airports Division, 15000 Aviation Blvd., Lawndale, CA 90261. In addition, one copy of any comments submitted to the FAA must be mailed or delivered to Mr. Keith D. Downs, Grant Manager, Economic Development Agency, Riverside County, 3525 Fourteenth Street, Riverside, CA 92501.

FOR FURTHER INFORMATION CONTACT: Mr. Ellsworth Chan, Manager, Safety and Standards Branch, AWP-620, 15000 Aviation Blvd., Lawndale, CA 90261, Telephone: (310) 725-3620. The request to release airport property may be reviewed in person at this same location.

SUPPLEMENTARY INFORMATION: On April 5, 2000, new authorizing legislation became effective. That bill, the Wendell H. Ford Aviation Investment and Reform Act for the 21st Century (AIR 21), Public Law 10-181 (Apr. 5, 2000; 114 Stat. 61), requires that a 30 day public notice must be provided before the Secretary may waive any condition imposed on an interest in surplus property.

The following is a brief overview of the request:

The County of Riverside requested that Desert Center Airport, Desert Center, California, approximately 1,129 acres, be released from its obligation to use the property for aeronautical purposes. The proposal would allow the county of Riverside's Economic Development Agency to begin marketing the airport for sale. While it is possible that the airport could be sold for use as a private airport, it is more likely that the purchaser will utilize the land for agricultural purposes. The proceeds generated from the sale would be reinvested in the county's airport system.

Issued in Hawthorne, California, on January 11, 2001.
Herman C. Bliss,
Manager, Airports Division, Western-Pacific Region.

[FR Doc. 01-2648 Filed 1-30-01; 8:45 am]

BILLING CODE 4910-13-M